FEDERAL ELECTION COMMISSION

[Notice 2022-16]

Filing Dates for the Indiana Special Election in the 2nd Congressional District

AGENCY: Federal Election Commission.

ACTION: Notice of filing dates for special election.

SUMMARY: Indiana has scheduled a special election on November 8, 2022, to fill the U.S. House of Representatives seat in the 2nd Congressional District held by the late Representative Jackie Walorski. Committees required to file reports in connection with the Special General Election on November 8, 2022, shall file a 12-day Pre-General and a 30-day Post-General Report.

FOR FURTHER INFORMATION CONTACT: Ms. Elizabeth S. Kurland, Information Division, 1050 First Street NE, Washington, DC 20463; Telephone: (202) 694-1100; Toll Free (800) 424-9530.

SUPPLEMENTARY INFORMATION:

Principal Campaign Committees

All principal campaign committees of candidates who participate in the Indiana Special General Election shall file a 12-day Pre-General Report on October 27, 2022, and a 30-day Post-General Report on December 8, 2022. (See chart below for the closing date for each report.)

Note that these reports are in addition to the campaign committee's regular quarterly filings. (See chart below for the closing date for each report).

Unauthorized Committees (PACs and Party Committees)

Political committees not filing monthly are subject to special election reporting if they make previously undisclosed contributions or expenditures in connection with the Indiana Special General Election by the close of books for the applicable report(s). (See chart below for the closing date for each report.)

Committees filing monthly that make contributions or expenditures in connection with the Indiana General Election will continue to file according to the monthly reporting schedule.

Additional disclosure information for the Indiana special election may be found on the FEC website at https://www.fec.gov/help-candidates-and-committees/dates-and-deadlines/.

Disclosure of Lobbyist Bundling Activity

Principal campaign committees, party committees and leadership PACs that are otherwise required to file reports in connection with the special election must simultaneously file FEC Form 3L if they receive two or more bundled contributions from lobbyists/registrants or lobbyist/registrant PACs that aggregate in excess of $20,200 during the special election reporting period. (See chart below for closing date of each period.) 11 CFR 104.22(a)(5)(v), (b), 110.17(e)(2), (f).

Calendar of Reporting Dates for Indiana Special Election
Report | Close of books ¹ | Reg./cert. & overnight mailing deadline | Filing deadline
Political Committees Involved in the Special General (11/08/2022) Must File
Pre-General | 10/19/2022 | 10/24/2022 | 10/27/2022
Post-General | 11/28/2022 | 12/08/2022 | 12/08/2022
Year-End | 12/31/2022 | 01/31/2023 | 01/31/2023
¹ The reporting period always begins the day after the closing date of the last report filed. If the committee is new and has not previously filed a report, the first report must cover all activity that occurred before the committee registered as a political committee up through the close of books for the first report due.

Dated: August 12, 2022.
On behalf of the Commission.
Allen Dickerson,
Chairman, Federal Election Commission.

[FR Doc. 2022-17786 Filed 8-17-22; 8:45 am]

BILLING CODE 6715-01-P